ENVIRONMENTAL PROTECTION AGENCY

40 CFR Part 761

[OPPTS-66009G; FRL-6553-6]

RIN 2070-AD27

Use Authorization for, and Distribution in Commerce of, Non-liquid Polychlorinated Biphenyls, Notice of Availability; Partial Reopening of Comment Period; Extension of Comment Period

AGENCY: Environmental Protection Agency (EPA).

ACTION: Proposed rule; extension of comment period.

SUMMARY: EPA is extending the comment period for the proposed rule which published in the Federal Register of December 10, 1999. That action solicited additional information on the use and concentration of polychlorinated biphenyls (PCBs) found in certain non-liquid PCB (NLPCB) applications. It also announced the availability, for comment, of data that were submitted to EPA after the comment period closed for the December 6, 1994 proposal. In addition to authorizing certain NLPCB uses, the proposed provision (§ 761.30(q)) would have required compliance with several conditions (e.g., notification, marking, air monitoring and standard wipe tests, remediation, repair and/or removal, reporting and recordkeeping requirements). EPA is extending the 120-day data submission period, as well as the 90-day comment period on existing and new data submissions. In response to a request for more time to develop the requested data, EPA is extending the comment periods to obtain data that may support an authorization which would require few, if any, conditions but is protective of health and the environment.

DATES: Data submissions, identified by docket control number OPPTS-66009G, must be received on or before October 10, 2000. Comments on any of the data submissions and/or relevant docket materials, identified by docket control number OPPTS-66009G, must be received on or before January 10, 2001.

ADDRESSES: Submit data and comments by mail, electronically, or in person. Please follow the detailed instructions for each method as provided in Unit III. of the “SUPPLEMENTARY INFORMATION.” To ensure proper receipt by EPA, it is imperative that you identify docket control number OPPTS-66009G in the subject line on the first page of your response.

FOR FURTHER INFORMATION CONTACT: For general information contact: Barbara Cunningham, Director, Office of Program Management and Evaluation, (7401), Office of Pollution Prevention and Toxics, Environmental Protection Agency, Ariel Rios Bldg., 1200 Pennsylvania Ave., NW., Washington, DC 20460; telephone numbers: (202) 554-1404; e-mail address: TSCA-Hotline@epa.gov.

For technical information contact: Peggy Reynolds, Office of Pollution Prevention and Toxics, National Program Chemicals Division, (7404), Environmental Protection Agency, Ariel Rios Bldg., 1200 Pennsylvania Ave., NW., Washington, DC 20460; telephone number: (202) 260-3965; e-mail address: reynolds.peggy@epa.gov.

SUPPLEMENTARY INFORMATION:

I. Does this Action Apply to Me?

You may be affected by this supplemental action if you own, use, process, or distribute PCBs in commerce. Affected categories and entities include:

Categories | NAICS Codes | Examples of Potentially Affected Entities
Industry | 31-33, 211, 5133 | Electroindustry manufacturers, oil and gas extraction, end-users of electricity, telecommunications and general contractors
Utilities and rural electric cooperatives | 2211 | Electric power and light companies
Individuals, Federal, State Municipal Governments, hospitals and colleges | 921, 622, 6113 | Individuals and agencies which own, use, process and distribute PCBs in commerce

This listing is not intended to be exhaustive, but rather provides a guide for readers regarding entities likely to be affected by this action. Other types of entities not listed in the table in this unit could also be affected. The North American Industrial Classification System (NAICS) codes have been provided to assist you and others in determining whether or not this action applies to certain entities. To determine whether you or your business is affected by this action, you should carefully examine the applicability provisions in Title 40 of the Code of Federal Regulations (CFR), part 761. If you have any questions regarding the applicability of this action to a particular entity, consult the technical person listed under “FOR FURTHER INFORMATION CONTACT.”

II. How Can I Get Additional Information, Including Copies of this Document or Other Related Documents?

1. Electronically. You may obtain electronic copies of this document, and certain other related documents that might be available electronically, from the EPA Internet Home Page at http://www.epa.gov/. On the Home Page select “Laws and Regulations” and then look up the entry for this document under the “Federal Register—Environmental Documents.” You can also go directly to the Federal Register listings at http://www.epa.gov/fedrgstr/. To access information about the PCB Program, go directly to the PCB Home Page at http://www.epa.gov/pcb.

2. In person. The Agency has established an official record for this action under docket control number OPPTS-66009G. The combined record also includes all material and submissions filed under docket control number OPPTS-66009C. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number for the Center is (202) 260-7099.

III. How and to Whom Do I Submit Comments?

As described in Unit III. of the proposed rule published in the Federal Register of December 10, 1999 (64 FR 69358) (FRL-6064-7), you may submit your comments through the mail, in person, or electronically. Please follow the instructions that are provided in the proposed rule. Do not submit any information electronically that you consider to be CBI. To ensure proper receipt by EPA, be sure to identify docket control number OPPTS-66009G in the subject line on the first page of your response.

IV. How Should I Handle CBI Information That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the technical person identified under FOR FURTHER INFORMATION CONTACT.

V. What Should I Consider as I Prepare My Comments for EPA?

In preparing comments and/or developing data for EPA's consideration, you should keep in mind that your NLPCB use is not currently authorized. Under the Toxic Substances Control Act (TSCA) and the existing PCB regulations, the use is prohibited and you would be required to dispose of that material. In addition to completing rulemaking to authorize the NLPCB use(s), EPA is required to make a no unreasonable risk finding for the distribution in commerce of the NLPCB material (i.e., the sale, donation or transfer of the unauthorized NLPCB). Therefore, you should keep in mind that you will not be able to avoid the prohibitions by simply selling, transferring or donating to another entity, equipment and property which contain the unauthorized NLPCB uses, unless the NLPCBs have been removed. You should weigh the costs of the TSCA PCB prohibitions (i.e., disposal and/or the loss of revenue) against the cost of providing useful data and comments to the Agency. For example, if the material is approaching the end of its life cycle, you may decide that it is not worth the effort to take samples of the material and therefore you would prefer to simply dispose of the item(s). In that event, you should remember that the PCB disposal requirements may apply regardless of whether the item is authorized for use and distribution in commerce. Conversely, you may determine that the item still has value and provides reliable service. In that instance, you may want to take advantage of this extension in order to develop the information which is needed to support the authorizations for the use and distribution in commerce of the NLPCB item(s).

In order for the Agency to make the no unreasonable risk finding and to develop a broad, generic use authorization and accompanying distribution in commerce provision, you should consider providing the data described in the December 10, 1999 Federal Register document (i.e., matching bulk, surface and air sample results so that EPA can examine the dermal and inhalation risks; matching bulk sample results and surface results so that relationships between bulk and surface concentrations can be better defined; summary statistics to better determine if the results are representative of the sample population; and population characteristics to determine how the results represent the overall population of the items in use; see the discussions at Units VII. and VIII. of the December 10, 1999 document at pages 64 FR 69360-69363).

Finally, you should make sure to submit your comments by the deadline in this document; i.e., October 10, 2000, for data submissions, and January 10, 2001, for comments on the docket materials. To ensure proper receipt by EPA, be sure to identify the docket control number assigned to this action (i.e., OPPTS-66009G) in the subject line on the first page of your response. You may also provide the name, date, and Federal Register citation.

VI. What Action is EPA Taking?

EPA is extending the period for public input to allow individuals an additional opportunity to complete sample collection and testing programs, to compile the results of the testing and to submit the results to EPA. EPA intends to use the data in support of an authorization which would require few, if any, conditions but is protective of health and the environment.

VII. What is the Agency's Authority for Taking this Action?

The authority for this action is section 6(e) of the Toxic Substances Control Act, 15 U.S.C. 2605(e).

VIII. Do Any Regulatory Assessment Requirements Apply to this Action?

No. This action is not a rulemaking, it merely extends the date by which public comments on a proposed rule must be submitted to EPA on a proposed rule that previously published in the Federal Register of December 6, 1994 (59 FR 62788) and extended by the Federal Register of December 10, 1999 (64 FR 69358). For information about the applicability of the regulatory assessment requirements to the proposed rule, please refer to the discussion in Unit VI. of that document (59 FR 62788, December 6, 1994).

List of Subjects

40 CFR Part 761

Environmental protection, Hazardous substances, Polychlorinated biphenyls, Reporting and recordkeeping requirements.

Dated: March 30, 2000.
Susan H. Wayland,
Acting Assistant Administrator for Prevention, Pesticides and Toxic Substances.

[FR Doc. 00-8407 Filed 4-5-00; 8:45 am]

BILLING CODE 6560-50-F